DEPARTMENT OF TRANSPORTATION

Research and Special Programs Administration

49 CFR Part 171

[Docket No. RSPA-99-5013 (HM-229)]

RIN 2137-AD21

Hazardous Materials: Revisions to Incident Reporting Requirements and the Hazardous Materials Incident Report Form

AGENCY: Research and Special Programs Administration (RSPA), DOT.

ACTION: Notice of proposed rulemaking; status.

SUMMARY: In a notice of proposed rulemaking (NPRM) published on July 3, 2001, RSPA (we) proposed changes to RSPA's Hazardous Materials Incident Report (DOT Form F 5800.1). This notice is to inform the public that we have contracted with a professional form development contractor to provide recommendations for the layout of the form consistent with RSPA's goals outlined in the NPRM. Also, the contractor will provide a web-based form to fulfill RSPA's goal of electronic, internet-based reporting and will draft detailed instructions to assist in completing the forms. Members of the regulated community may be contacted to participate in focus groups to test the proposed form and subsequent alternative layouts developed by the contractor. The contract is expected to be completed by December 31, 2002.

FOR FURTHER INFORMATION CONTACT: For comments or questions concerning the contract discussed in this update, contact Ron DiGregorio at the Office of Hazardous Materials Planning and Analysis, telephone (202) 366-4484, Research and Special Programs Administration. For comments or questions concerning the NPRM or rulemaking, contact Michael Johnsen at the Office of Hazardous Materials Standards, telephone (202) 366-8553 or Kevin Coburn, at the Office of Hazardous Materials Planning & Analysis, telephone (202) 366-4555, Research and Special Programs Administration.

SUPPLEMENTARY INFORMATION:

I. Background

On July 3, 2001, RSPA (“we”) published an NPRM (66 FR 35155) proposing revisions to the incident reporting requirements of the Hazardous Materials Regulations and the hazardous materials incident report form, DOT Form F 5800.1. Our intent is to improve the clarity of the form to make it more user-friendly and to allow for electronic scanning of the form.

We included a proposed revision to DOT Form F 5800.1 in the NPRM that incorporated elements found in recent versions of the U.S. Census form and other government forms that are subjected to scanning for electronic data storage, retrieval and analysis. We received several comments concerning the layout of the form, which will be addressed in the final rule. However, we believe that the recommendations of a company well experienced in developing these types of forms could further improve the usefulness of the form. The contractor will consider incorporating recommendations on the format from commenters into its suggested layouts. RSPA will review the suggestions submitted by the contractor in addition to comments received in response to the NPRM, during the development of the revised form that will be part of the final rule.

It is important to note that the final content (i.e., specific information which will be reported) of the form will be determined by RSPA. The contractor will use the content of the proposed form as published in the NPRM and will maintain the data elements as they appear in the proposed form, though wording and order of the questions may vary.

RSPA seeks to compile an accurate database of incidents meeting the criteria specified in § 171.16. A form that can be completed easily and accurately will assist us in compiling accurate data and reduce the information collection burden on the regulated community.

A comprehensive set of instructions for completing the form will answer questions a filer may have without requiring the filer to contact us directly. Clear and concise instructions will also improve the accuracy of the data submitted by providing examples and explanations for each of the questions posed on the form.

We believe that a web-based DOT Form F 5800.1 that can be completed online is essential to our efforts for reducing burden on members of the regulated community and obtaining accurate reporting data. It also assists us in meeting our obligations under the Government Paperwork Elimination Act to accept electronic documents for transactions conducted with the public and regulated communities. In addition to reducing paperwork and postage costs, the on-line version of the form will include logic patterns to minimize accidental errors and remove non-required questions, as the form will “respond” to the data entered into it. This will reduce the time required to complete the form.

RSPA retains final authority as to the format and content of the incident report form.

Issued in Washington, DC, on October 28, 2002.
Robert A. McGuire,
Associate Administrator for Hazardous Materials Safety.

[FR Doc. 02-27852 Filed 10-31-02; 8:45 am]

BILLING CODE 4910-60-P